DEPARTMENT OF TRANSPORTATION

Federal Aviation Administration

14 CFR Part 39

[Docket No. FAA-2019-0016; Product Identifier 2018-NM-168-AD; Amendment 39-19839; AD 2020-03-14]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A350-941 and -1041 airplanes. This AD was prompted by reports of loss of retention of the regulator inlet filter retainer on certain crew oxygen cylinder assemblies. This AD requires an inspection of the crew oxygen cylinder assembly for any discrepancy and replacement of an affected crew oxygen cylinder assembly with a serviceable part, as specified in a European Union Aviation Safety Agency (EASA) AD, which is incorporated by reference. The FAA is issuing this AD to address the unsafe condition on these products.

DATES: This AD is effective April 2, 2020.

The Director of the Federal Register approved the incorporation by reference of a certain publication listed in this AD as of April 2, 2020.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0016.

Examining the AD Docket

You may examine the AD docket on the internet at https://www.regulations.gov by searching for and locating Docket No. FAA-2019-0016; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aerospace Engineer, International Section, Transport Standards Branch, FAA, 2200 South 216th St., Des Moines, WA 98198; telephone and fax 206-231-3218; email Kathleen.Arrigotti@faa.gov.

SUPPLEMENTARY INFORMATION:

Discussion

The EASA, which is the Technical Agent for the Member States of the European Union, has issued EASA AD 2019-0168, dated July 16, 2019 (“EASA AD 2019-0168”) (also referred to as the Mandatory Continuing Airworthiness Information, or “the MCAI”), to correct an unsafe condition for all Airbus SAS Model A350-941 and -1041 airplanes.

The FAA issued a notice of proposed rulemaking (NPRM) to amend 14 CFR part 39 by adding an AD that would apply to all Airbus SAS Model A350-941 and -1041 airplanes. The NPRM published in the Federal Register on February 22, 2019 (84 FR 5611). The NPRM was prompted by reports of loss of retention of the regulator inlet filter retainer on certain crew oxygen cylinder assemblies. The NPRM proposed to require an operational check of the crew oxygen cylinder assembly, replacement of an affected assembly, and eventual replacement of all affected assemblies with redesigned serviceable assemblies.

The FAA issued a supplemental NPRM (SNPRM) to amend 14 CFR part 39 by adding an AD that would apply to all Airbus SAS Model A350-941 and -1041 airplanes. The SNPRM published in the Federal Register on November 7, 2019 (84 FR 60003). The FAA issued the SNPRM to include additional part numbers that are affected by the unsafe condition.

The FAA is issuing this AD to address loss of retention of the regulator inlet filter retainer on certain crew oxygen cylinder assemblies. This condition could lead to particle ingestion into the regulator during ground handling, possibly resulting in ignition/fire during system ground operational testing. See the MCAI for additional background information.

Comments

The FAA gave the public the opportunity to participate in developing this final rule. The following presents the comments received on the SNPRM and the FAA's response to each comment.

Support for the SNPRM

The Air Line Pilots Association, International (ALPA) expressed support for the SNPRM.

Request To Exclude Requirement To Inspect On-Wing Oxygen Cylinders

Delta Air Lines (DAL) requested the removal of the proposed requirement (in the SNPRM) that on-wing oxygen cylinders be removed and inspected within 6 months of the effective date of the proposed AD. DAL noted that paragraph (1) of EASA AD 2019-0168 implies that all affected cylinders need to be inspected, including on-wing units, but paragraph 3.2 of Airbus Alert Operators Transmission A35P0110-17, Rev. 01, dated April 11, 2019, states that there is no consequence from the loose filter retainer condition on the crew oxygen system function during flight. DAL stated that it does not agree that on-wing oxygen cylinders need to be removed and inspected within the 6-month compliance time specified in the proposed AD if there are no consequences of failure during flight.

The FAA disagrees with the commenter's request. EASA has confirmed that the oxygen system may fail due to improper cylinder installation on-wing. Therefore, the FAA has determined the actions specified in this AD are necessary to address the identified unsafe condition.

Note that this AD does not require inspecting spare (off-wing) oxygen cylinders. Paragraph (3) of EASA AD 2019-0168 prevents the installation of the non-serviceable parts, which will address any spare oxygen cylinders. The FAA has added paragraph (h)(4) to this AD to clarify that the inspection required by this AD is only for on-wing oxygen cylinder assemblies.

Request To Correct Omission in Paragraph (h)(3)

DAL requested that paragraph (h)(3) of the proposed AD (in the SNPRM) be revised to include a reference to paragraph (1) of EASA AD 2019-0168. The commenter suggested that paragraph (h)(3) should state “Replace the language in paragraphs (1 and 2) of EASA AD 2019-0168 . . . .” The commenter did not provide justification for this request.

The FAA agrees with the commenter's request because in paragraph (h)(3) of the proposed AD (in the SNPRM) the reference to paragraph (1) of EASA AD 2019-0168 was inadvertently omitted. We have revised paragraph (h)(3) of this AD to refer to paragraphs (1) and (2) of EASA AD 2019-0168.

Conclusion

The FAA reviewed the relevant data, considered the comments received, and determined that air safety and the public interest require adopting this final rule with the changes described previously and minor editorial changes. The FAA has determined that these minor changes:

• Are consistent with the intent that was proposed in the SNPRM for addressing the unsafe condition; and

• Do not add any additional burden upon the public than was already proposed in the SNPRM.

The FAA also determined that these changes will not increase the economic burden on any operator or increase the scope of this final rule.

Related IBR Material Under 1 CFR Part 51

EASA AD 2019-0168 describes procedures for an inspection of the crew oxygen cylinder assembly for any discrepancy (a loose part making a sound during agitation of the cylinder) and replacement of an affected crew oxygen cylinder. This material is reasonably available because the interested parties have access to it through their normal course of business or by the means identified in the ADDRESSES section.

Costs of Compliance

The FAA estimates that this AD affects 13 airplanes of U.S. registry. The FAA estimates the following costs to comply with this AD:

Estimated Costs for Required Actions
Labor cost | Parts cost | Cost per product | Cost on U.S. operators
172 work-hours × $85 per hour = $14,620 | $6,940 | $21,560 | $280,280

The FAA has received no definitive data that will enable the agency to provide cost estimates for the on-condition replacements specified in this AD.

According to the manufacturer, some or all of the costs of this AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AD 2020-03-14 Airbus SAS: Amendment 39-19839; Docket No. FAA-2019-0016; Product Identifier 2018-NM-168-AD.

(a) Effective Date

This AD is effective April 2, 2020.

(b) Affected ADs

None.

(c) Applicability

This AD applies to all Airbus SAS Model A350-941 and -1041 airplanes, certificated in any category.

(d) Subject

Air Transport Association (ATA) of America Code 35, Oxygen.

(e) Reason

This AD was prompted by reports of loss of retention of the regulator inlet filter retainer on certain crew oxygen cylinder assemblies. The FAA is issuing this AD to address loss of retention of the regulator inlet filter retainer on certain crew oxygen cylinder assemblies. This condition could lead to particle ingestion into the regulator during ground handling, possibly resulting in ignition/fire during system ground operational testing.

(f) Compliance

Comply with this AD within the compliance times specified, unless already done.

(g) Requirements

Except as specified in paragraph (h) of this AD: Comply with all required actions and compliance times specified in, and in accordance with, European Union Aviation Safety Agency (EASA) AD 2019-0168, dated July 16, 2019 (“EASA AD 2019-0168”).

(h) Exceptions to EASA AD 2019-0168

(1) Where EASA AD 2019-0168 refers to its effective date this AD requires using the effective date of this AD.

(2) The “Remarks” section of EASA AD 2019-0168 does not apply to this AD.

(3) Where paragraphs (1) and (2) of EASA AD 2019-0168 state “the instructions of the AOT,” replace that language with “paragraph 4.2.2., Inspection Requirements, of the AOT.”

(4) Where paragraph (1) of EASA AD 2019-0168 specifies to “inspect each affected part,” this AD requires a one-time inspection of any “affected part” that is installed on-wing.

(i) No Reporting Required

Although the service information referenced in EASA AD 2019-0168 specifies to submit certain information to the manufacturer, this AD does not include that requirement.

(j) No Return of Parts Required

Although the service information referenced in EASA AD 2019-0168 specifies to return affected parts to the manufacturer, this AD does not include that requirement.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0168 that contains RC procedures and tests: Except as required by paragraph (k)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

For more information about this AD, contact Kathleen Arrigotti, Aerospace Engineer, International Section, Transport Standards Branch, FAA, 2200 South 216th St., Des Moines, WA 98198; telephone and fax 206 231 3218; email Kathleen.Arrigotti@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0168, dated July 16, 2019.

(ii) [Reserved]

(3) For information about EASA AD 2019-0168, contact the EASA, Konrad-Adenauer-Ufer 3, 50668 Cologne, Germany; telephone +49 221 89990 6017; email ADs@easa.europa.eu; Internet www.easa.europa.eu. You may find this EASA AD on the EASA website at https://ad.easa.europa.eu.

(4) You may view this material at the FAA, Transport Standards Branch, 2200 South 216th St., Des Moines, WA. For information on the availability of this material at the FAA, call 206-231-3195. This material may be found in the AD docket on the internet at https://www.regulations.gov by searching for and locating Docket No. FAA-2019-0016.

(5) You may view this material that is incorporated by reference at the National Archives and Records Administration (NARA). For information on the availability of this material at NARA, email fedreg.legal@nara.gov, or go to: https://www.archives.gov/federal-register/cfr/ibr-locations.html.

Issued on February 7, 2020.
Gaetano A. Sciortino,
Deputy Director for Strategic Initiatives, Compliance & Airworthiness Division, Aircraft Certification Service.

[FR Doc. 2020-03968 Filed 2-26-20; 8:45 am]

BILLING CODE 4910-13-P